FEDERAL DEPOSIT INSURANCE CORPORATION

[OMB No. 3064-0165; -0183]

Agency Information Collection Activities: Proposed Collection Renewal; Comment Request

AGENCY: Federal Deposit Insurance Corporation (FDIC).

ACTION: Notice and request for comment.

SUMMARY: The FDIC, as part of its obligations under the Paperwork Reduction Act of 1995, invites the general public and other Federal agencies to take this opportunity to comment on the request to renew the existing information collections described below (OMB Control No. 3064-0165 and -0183). The notices of proposed renewal for these information collections were previously published in the Federal Register on October 10, 2024, and October 21, 2024, allowing for a 60-day comment period.

DATES: Comments must be submitted on or before January 13, 2025.

ADDRESSES: Interested parties are invited to submit written comments to the FDIC by any of the following methods:

• Agency website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7 a.m. and 5 p.m.

Written comments and recommendations for the proposed information collection also should be sent within 30 days of publication of this notice to www.reginfo.gov/public/do/PRAMain. Find this particular information collection by selecting “Currently under 30-day Review—Open for Public Comment”” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collection of information:

1. Title: Pillar 2 Guidance—Advanced Capital Framework.

OMB Number: 3064-0165.

Form Number: None.

Affected Public: Insured state nonmember banks and certain subsidiaries of these entities.

Burden Estimate:

Summary of Estimated Annual Burden
[OMB No. 3064-0165]
Information collection (IC) (obligation to respond) | Type of burden (frequency of response) | Number of respondents | Number of responses per respondent | Time per response (HH:MM) | Annual burden (hours)
Supervisory Guidance: Supervisory Process of Capital Adequacy (Pillar 2) Related to the Implementation of the Basel II Advanced Capital Framework (Voluntary) | Recordkeeping (Quarterly) | 1 | 4 | 105:00 | 420
Total Annual Burden (Hours): |  |  |  |  | 420
Source: FDIC.

General Description of Collection. In 2008, the Office of the Comptroller of the Currency, the Board of Governors of the Federal Reserve System, and the FDIC issued a supervisory guidance document related to the supervisory review process of capital adequacy (Pillar 2) in connection with the implementation of the Basel II Advanced Capital Framework. Sections 37, 41, 43 and 46 of the guidance include possible information collections. Section 37 provides that banks should state clearly the definition of capital used in any aspect of its internal capital adequacy assessment process (ICAAP) and document any changes in the internal definition of capital. Section 41 provides that banks should maintain thorough documentation of its ICAAP. Section 43 specifies that the board of directors should approve the bank's ICAAP, review it on a regular basis, and approve any changes. Section 46 recommends that boards of directors periodically review the assessment of overall capital adequacy and analyze how measures of internal capital adequacy compare with other capital measures such as regulatory or accounting. There has been no change in the method or substance of this information collection, the burden is unchanged from the 2021 burden estimate.

2. Title: Credit Risk Retention.

OMB Number: 3064-0183.

Form Number: None.

Affected Public: Insured State nonmember banks, State savings institutions, insured State branches of foreign banks, and any subsidiary of the aforementioned entities.

Burden Estimate:

IC description | Type of burden (obligation to respond) | Frequency of response | Estimated number of respondents | Number of responses/ respondent | Hours per response | Total annual estimated burden
Disclosure Burdens
§ 373.4(a)(2) Standard Risk Retention—Horizontal Interest | Disclosure (Mandatory) | On Occasion | 2 | 2 | 5.5 | 22
§ 373.4(a)(1) Standard Risk Retention—Vertical Interest | Disclosure (Mandatory) | On Occasion | 2 | 2 | 2.0 | 8
§ 373.4(a)(3) Standard Risk Retention—Combined Interest * | Disclosure (Mandatory) | On Occasion | 1 | 1 | 7.5 | 8
§ 373.5 Revolving Master Trusts | Disclosure (Mandatory) | On Occasion | 3 | 2 | 7.0 | 42
§ 373.6 Eligible ABCP Conduits * | Disclosure (Mandatory) | On Occasion | 1 | 1 | 3.0 | 3
§ 373.7 Commercial MBS * | Disclosure (Mandatory) | On Occasion | 1 | 1 | 20.75 | 21
§ 373.10 Qualified Tender Option Bonds * | Disclosure (Mandatory) | On Occasion | 1 | 1 | 6.0 | 6
§ 373.11 Allocation of Risk Retention to an Originator * | Disclosure (Mandatory) | On Occasion | 1 | 1 | 2.5 | 3
§ 373.13 Exemption for Qualified Residential Mortgages * | Disclosure (Mandatory) | On Occasion | 1 | 1 | 1.25 | 1
§ 373.15 Exemption for Qualifying Commercial Loans, Commercial Real Estate and Automobile Loans * | Disclosure (Mandatory) | On Occasion | 1 | 1 | 20.0 | 20
§ 373.16 Underwriting Standards for Qualifying Commercial Loans * | Disclosure (Mandatory) | On Occasion | 1 | 1 | 1.25 | 1
§ 373.17 Underwriting Standards for Qualifying Commercial Real Estate Loans * | Disclosure (Mandatory) | On Occasion | 1 | 1 | 1.25 | 1
§ 373.18 Underwriting Standards for Qualifying Automobile Loans * | Disclosure (Mandatory) | On Occasion | 1 | 1 | 1.25 | 1
Disclosure Subtotal |  |  |  |  |  | 137
Recordkeeping Burdens
§ 373.4(a)(2) Standard Risk Retention—Horizontal Interest | Recordkeeping (Mandatory) | On Occasion | 2 | 2 | 0.5 | 2
§ 373.4(a)(1) Standard Risk Retention—Vertical Interest | Recordkeeping (Mandatory) | On Occasion | 2 | 2 | 0.5 | 2
§ 373.4(a)(3) Standard Risk Retention—Combined Interest * | Recordkeeping (Mandatory) | On Occasion | 1 | 1 | 0.5 | 1
§ 373.5 Revolving Master Trusts | Recordkeeping (Mandatory) | On Occasion | 3 | 2 | 0.5 | 3
§ 373.6 Eligible ABCP Conduits * | Recordkeeping (Mandatory) | On Occasion | 1 | 1 | 20.0 | 20
§ 373.7 Commercial MBS * | Recordkeeping (Mandatory) | On Occasion | 1 | 1 | 30.0 | 30
§ 373.11 Allocation of Risk Retention to an Originator * | Recordkeeping (Mandatory) | On Occasion | 1 | 1 | 20.0 | 20
§ 373.13 Exemption for Qualified Residential Mortgages * | Recordkeeping (Mandatory) | On Occasion | 1 | 1 | 40.0 | 40
§ 373.15 Exemption for Qualifying Commercial Loans, Commercial Real Estate and Automobile Loans * | Recordkeeping (Mandatory) | On Occasion | 1 | 1 | 0.5 | 1
§ 373.16 Underwriting Standards for Qualifying Commercial Loans * | Recordkeeping (Mandatory) | On Occasion | 1 | 1 | 40.0 | 40
§ 373.17 Underwriting Standards for Qualifying Commercial Real Estate Loans * | Recordkeeping (Mandatory) | On Occasion | 1 | 1 | 40.0 | 40
§ 373.18 Underwriting Standards for Qualifying Automobile Loans * | Recordkeeping (Mandatory) | On Occasion | 1 | 1 | 40.0 | 40
Recordkeeping Subtotal |  |  |  |  |  | 239
Total Annual Burden Hours |  |  |  |  |  | 376 hours

General Description of Collection: This information collection request comprises disclosure and recordkeeping requirements under the credit risk retention rule issued pursuant to section 15G of the Securities Exchange Act of 1934 (15 U.S.C. 78o-11), as added by section 941 of the Dodd-Frank Wall Street Reform and Consumer Protection Act (Dodd-Frank).¹ The Credit Risk Retention rule (the Rule) was jointly issued in 2015 by the FDIC, the Office of the Comptroller of the Currency (OCC), the Federal Reserve Board (Board”, the Securities and Exchange Commission (the Commission) and, with respect to the portions of the Rule addressing the securitization of residential mortgages, the Federal Housing Finance Agency (FHFA) and the Department of Housing and Urban Development (HUD).² The FDIC regulations corresponding to the Rule are found at 12 CFR part 373.³

¹ Public Law 111-2-3, 124 Stat. 1376 (2010).

² 79 FR 77740.

³ Each agency adopted the same rule text but each agency's version of its rule is codified in different parts of the Code of Federal Regulations with substantially identical section numbers (e.g., __.01; .__02, etc.). Rule citations herein are to FDIC's version of the Rule which is codified at 12 CFR part 373.

Section 941 of Dodd-Frank requires the Board, the FDIC, the OCC (collectively, the Federal banking agencies), the Commission and, in the case of the securitization of any “residential mortgage asset,” together with HUD and FHFA, to jointly prescribe regulations that (i) require an issuer of an asset-backed security or a person who organizes and initiates an asset backed securities transaction by selling or transferring assets, either directly or indirectly, including through an affiliate, to the issuer (issuer or organizer) to retain not less than five percent of the credit risk of any asset that the issuer or organizer, through the issuance of an asset-backed security (ABS), transfers, sells or conveys to a third party and (ii) prohibit an issuer or organizer from directly or indirectly hedging or otherwise transferring the credit risk that the issuer or organizer is required to retain under section 941 and the agencies' implementing rules. Exempted from the credit risk retention requirements of section 941 are certain types of securitization transactions, including ABS collateralized solely by qualified residential mortgages (QRMs), as that term is defined in the Rule. In addition, section 941 provides that the agencies must permit an issuer or organizer to retain less than five percent of the credit risk of residential mortgage loans, commercial real estate (CRE) loans, commercial loans and automobile loans that are transferred, sold or conveyed through the issuance of ABS by the issuer or organizer, if the loans meet underwriting standards established by the Federal banking agencies.

The FDIC implemented section 941 of Dodd-Frank through 12 CFR part 373 (the Rule). The Rule defines a securitizer as (1) the depositor of the asset-backed securities (if the depositor is not the sponsor); or (2) the sponsor of the asset-backed securities.⁴ The Rule provides a menu of credit risk retention options from which securitizers can choose and sets out the standards, including disclosure, recordkeeping, and reporting requirements, for each option; identifies the eligibility criteria, including certification and disclosure requirements, that must be met for ABS offerings to qualify for the QRM and other exemptions; specifies the underwriting standards for CRE loans, commercial loans and automobile loans, as well as disclosure, certification and recordkeeping requirements, that must be met for ABS issuances collateralized by such loans to qualify for reduced credit risk retention; and sets forth the circumstances under which retention obligations may be allocated by sponsors to originators, including disclosure and monitoring requirements.

⁴ 12 CFR 373.2.

Part 373 contains several requirements that qualify as information collections under the Paperwork Reduction Act of 1995 (PRA). The information collection requirements are found in 12 CFR 373.4, 373.5, 373.6, 373.7, 373.8, 373.9, 373.10, 373.11, 373.13, 373.15, 373.16, 373.17, 373.18, and 373.19(g). The recordkeeping requirements relate primarily to (i) the adoption and maintenance of various policies and procedures to ensure and monitor compliance with regulatory requirements and (ii) certifications, including as to the effectiveness of internal supervisory controls. The required disclosures for each risk retention option are intended to provide investors with material information concerning the sponsor's retained interest in a securitization transaction (e.g., the amount, form and nature of the retained interest, material assumptions and methodology, representations and warranties). Compliance with the information collection requirements is mandatory, responses to the information collections will not be kept confidential and, with the exception of the recordkeeping requirements in 12 CFR 373.4(d), 373.5(k)(3), and 373.15(d), the Rule does not specify a mandatory retention period for the information.

Request for Comment

Comments are invited on (a) whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on December 9, 2024.
James P. Sheesley,
Assistant Executive Secretary.

[FR Doc. 2024-29295 Filed 12-11-24; 8:45 am]

BILLING CODE 6714-01-P